DEPARTMENT OF TRANSPORTATION

National Highway Traffic Safety Administration

[Docket No. NHTSA-2013-0123; Notice 2]

Thor Industries, Inc., Grant of Petition for Decision of Inconsequential Noncompliance

AGENCY: National Highway Traffic Safety Administration (NHTSA), Department of Transportation (DOT).

ACTION: Grant of petition.

SUMMARY: Livin' Lite RV, Inc.(Livin' Lite), a wholly owned subsidiary of Thor Industries, Inc. (Thor), has determined that certain model year Livin' Lite RV trailers manufactured between November 7, 2008 and September 10, 2013, do not fully comply with paragraph S9 of Federal Motor Vehicle Safety Standard (FMVSS) No. 110, Tire Selection and Rims and Motor Home/Recreation Vehicle Trailer Load Carrying Capacity Information for Motor Vehicles with a GVWR of 4,536 kilograms (10,000 pounds) or less and paragraph S10 of FMVSS No. 120, Tire Selection and Rims and Motor Home/Recreation Vehicle Trailer Load Carrying Capacity Information for Motor Vehicles with a GVWR of more than 4,536 kilograms (10,000 pounds). Thor has filed an appropriate report dated November 7, 2013, pursuant to 49 CFR part 573, Defect and Noncompliance Responsibility and Reports.

ADDRESSES: For further information on this decision contact Harry Thompson, Office of Vehicle Safety Compliance, the National Highway Traffic Safety Administration (NHTSA), telephone (202) 366-5289, facsimile (202) 366-5930.

SUPPLEMENTARY INFORMATION: I. Thor's Petition: Pursuant to 49 U.S.C. 30118(d) and 30120(h) and the rule implementing those provisions at 49 CFR part 556, Thor has petitioned for an exemption from the notification and remedy requirements of 49 U.S.C. Chapter 301 on the basis that this noncompliance is inconsequential to motor vehicle safety.

Notice of receipt of the petition was published, with a 30-day public comment period, on March 28, 2014 in the Federal Register (79 FR 17649). No comments were received. To view the petition and all supporting documents log onto the Federal Docket Management System (FDMS) Web site at: http://www.regulations.gov/. Then follow the online search instructions to locate docket number “NHTSA-2013-0123.”

II. RV Trailers Involved: Affected are approximately 3,465 RV trailers manufactured between November 7, 2008 and September 10, 2013. The trailer models affected are Livin' Lite model year (MY) 2008-2014 Quicksilver, MY 2009-2014 Camplite, MY 2009-2014 VRV, MY 2009-2014 Bearcat, and MY 2013-2014 Axxess.

III. Noncompliance: Thor explains that the noncompliance is that of the absence of the Cargo Carrying Capacity (CCC) label that is required by paragraph S9 of FMVSS No. 110 and paragraph S10 of FMVSS No. 120 for all motor homes and RV Trailers.

IV. Rule Text: Paragraph S9 of FMVSS No. 110 requires in pertinent part:

. . . S9.3 Each motor home and RV Trailer single stage or final stage manufacturer must affix either a motor home occupant and cargo carrying capacity (OCCC) label (Figure 3) or a RV trailer cargo carrying capacity (CCC) label (Figure 4) to its vehicles that meets the following criteria . . .

Paragraph S10 of FMVSS No. 120 requires in pertinent part:

. . . S10.4 Each motor home and RV Trailer single stage or final stage manufacturer must affix either a motor home occupant and cargo carrying capacity (OCCC) label (Figure 1) or a RV trailer cargo carrying capacity (CCC) label (Figure 2) to its vehicles that meets the following criteria . . .

V. Summary of Thor's Analyses: Thor stated its belief that the subject noncompliance is inconsequential to motor vehicle safety for the following reasons:

1. The cargo carrying capacity information displayed on the CCC label is redundant since it is also displayed on the Tire Placard Label as required by paragraph S4.3 of FMVSS No. 110.

2. Although the Tire Placard Label is not required on trailers over 10,000 lbs GVWR, Thor placed the Tire Placard Label on all trailers it produced and is located on the trailer tongue next to the Federal Certification Label.

3. The Livin' Lite Owner's manuals (which can be found on www.livinlite.com) instruct owners on the loading of their vehicle and where to find the required ratings that are displayed on the Federal Certification Label.

4. The Manufacturer's Certificate of Origin (MSO) also contains both the Gross Vehicle Weight Rating (GVWR) and the unloaded vehicle weight (UVW). The difference of these two numbers would also give the owner the available CCC of the trailer.

5. Thor had received no complaints or inquiries regarding cargo carrying capacity from any of its owners or dealers.

6. Thor also stated its belief that NHTSA has previously stated (72 FR 68442-68466, December 4, 2007) that the most important time for RV purchasers to receive the CCC information is at the point-of-sale.

Thor has additionally informed NHTSA that it has corrected the noncompliance so that all future production of these trailers will fully comply with FMVSS Nos. 110 and 120.

In summation, Thor believes that the described noncompliance of the subject trailers is inconsequential to motor vehicle safety, and that its petition, to exempt Thor from providing recall notification of noncompliance as required by 49 U.S.C. 30118 and remedying the recall noncompliance as required by 49 U.S.C. 30120 should be granted.

NHTSA Decision

NHTSA Analysis: Thor reported a noncompliance with FMVSS Nos. 110 and 120. However, the specifications listed on Livin Lite's Web site for the models identified in Thor's report that it filed under 49 CFR part 573 show a maximum GVWR of 10,000 lbs. As such, the noncompliance is limited only to the requirements of paragraph S9.3 of FMVSS No. 110.

The 3,465 affected RV trailers do not have the required cargo carrying capacity label. As noted above, FMVSS No. 110, S9 requires an RV label to state the vehicle's VIN, maximum weight of cargo, and, if applicable, the weight of a full load of potable water. FMVSS No. 110, S4.3(a) requires the vehicle's capacity weight to be stated on the vehicle placard, i.e., the weight of cargo should not exceed XXX kg or XXX lbs. The placard is located adjacent to the 49 CFR 567 certification label which contains the VIN. So the missing information is the water weight. Livin Lite's specifications for the affected vehicles list water volumes of 20-63 gallons. Thor provided a sample of the missing label in its petition stating the water weight in kg and lbs, which the label indicates is calculated using the conversions 1 kg/liter and 8.3 lbs/gallon. Therefore, the water weights are 20 gallons = 166 lbs to 63 gallons = 523 lbs. The model 11FDB trailer has a 20 gallon fresh water capacity which relates to 24 percent of its load capacity of 705 lbs. This appears to be the model with the highest percentage of water weight within its cargo carrying capacity weight. However, it is a very small trailer with limited storage space. Specifications for the other RVs indicate a water weight of 17 percent or less.

We confirmed that the owner's manual on Livin Lite's Web site provides warnings to not overload its RVs. The manual advises against loading an RV with maximum liquid capacities including the holding tanks, and filling the full volume of storage compartments and cupboards. An additional prominent warning in the manual states “Never overload your trailer. Do not exceed the rated load of the RV or the rated load of any axle!” Furthermore, the Livin Lite Web site has a link to the Recreation Vehicle Industry Association's publication “Trailer Life, 2012 Towing Guide.” It states on page 7: “The only surefire way to find out what your trailer weighs is to load it as usual for a trip and weigh it at a public scale,” making sure not to exceed the Gross Vehicle Weight Rating (GVWR) or a Gross Axle Weight Rating (GAWR). We believe Livin Lite's warnings and additional information are sufficient guidance to owners of the affected RVs.

NHTSA Decision: In consideration of the foregoing, NHTSA has decided that Thor has met its burden of persuasion that the subject noncompliance is inconsequential to motor vehicle safety. Accordingly, Thor's petition is hereby granted and Thor is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that Thor no longer controlled at the time it determined that the noncompliance existed. However, the granting of this petition does not relieve vehicle distributors and dealers of the prohibitions on the sale, offer for sale, or introduction or delivery for introduction into interstate commerce of the noncompliant vehicles under their control after Thor notified them that the subject noncompliance existed.

Authority: (49 U.S.C. 30118, 30120: delegations of authority at 49 CFR 1.95 and 501.8)

Jeffrey M. Giuseppe,
Acting Director, Office of Vehicle Safety Compliance.

[FR Doc. 2014-21884 Filed 9-12-14; 8:45 am]

BILLING CODE 4910-59-P